DEPARTMENT OF THE INTERIOR

Bureau of Land Management

[LLCAD07000 L16100000.DS0000 15XL1109AF]

Notice of Intent To Amend the California Desert Conservation Area Plan and Prepare an Environmental Impact Statement/Environmental Impact Report for a Proposed Recreation Area Management Plan and General Plan Update for the Management of Ocotillo Wells State Vehicular Recreation Area in Imperial County, California

AGENCY: Bureau of Land Management, Interior.

ACTION: Notice of intent.

SUMMARY: In compliance with the National Environmental Policy Act of 1969, as amended (NEPA), and the Federal Land Policy and Management Act of 1976, as amended (FLPMA), the Bureau of Land Management (BLM) El Centro Field Office, California, and California Department of Parks and Recreation Off-Highway Motor Vehicle Recreation Division (OHMVR) intend to prepare a California Desert Conservation Area (CDCA) Plan Amendment with an associated joint Environmental Impact Statement (EIS)/Environmental Impact Report (EIR) for the Ocotillo Wells State Vehicular Recreation Area (SVRA) for the proposed Recreation Area Management Plan (RAMP) and General Plan update. By this notice, the BLM and OHMVR are announcing the beginning of the scoping process to solicit public comments and identify issues.

DATES: This notice initiates the public scoping process for the CDCA Plan Amendment with associated joint EIS/EIR. Comments on issues may be submitted in writing until March 11, 2015.

The BLM has scheduled two public scoping meetings:

Wednesday, March 18, 2015

3:30 p.m.-8:30 p.m., Temecula Conference Center, 41000 Main Street, Temecula, CA 92590.

Saturday, March 21, 2015

12:00 p.m.-4:00 p.m., Ocotillo Wells SVRA Visitor Center, Discovery Center Building, 5172 Highway 78, Borrego Springs, CA 92004.

The date(s) and location(s) of any additional scoping meetings will be announced at least 15 days in advance through local media, newspapers and the BLM Web site at: www.blm.gov/ca/st/en/fo/elcentro.html. In order to be included in the analysis, all comments must be received prior to the close of the 30-day scoping period or 15 days after the last public meeting, whichever is later. The BLM will provide additional opportunities for public participation as appropriate.

ADDRESSES: You may submit comments on issues and planning criteria related to the Ocotillo Wells SVRA RAMP and General Plan Update by any of the following methods:

• Web site: www.blm.gov/ca/st/en/fo/elcentro.html.

• Email: BLM_CA_Ocotillo_Wells_RAMP@blm.gov.

• Fax: 760-337-4490

• Mail: Attn: Carrie Simmons, BLM El Centro Field Office, 1661 S. 4th Street, El Centro, CA 92243.

Documents pertinent to this proposal may be examined at the El Centro Field Office at the above address.

FOR FURTHER INFORMATION CONTACT: Carrie Simmons; telephone 760-337-4437; address 1661 S. 4th Street, El Centro, CA 92243; or email BLM_CA_Ocotillo_Wells_RAMP@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM intends to prepare a CDCA Plan Amendment with an associated EIS, announces the beginning of the scoping process, and seeks public input on issues and planning criteria. The Ocotillo Wells SVRA is located in San Diego and Imperial counties, generally north of State Route 78, west of State Route 86, and bounded by Anza-Borrego Desert State Park on the north and west. The BLM portion of this project occurs solely within Imperial County and constitutes approximately 21,600 acres within the 85,000 acre Ocotillo Wells SVRA.

The BLM lands within the Ocotillo Wells SVRA are managed by California State Parks OHMVR Division through a Memorandum of Understanding (MOU). A joint RAMP/General Plan would improve the efficiency and effectiveness of resource and recreation management at Ocotillo Wells SVRA. Primary recreation activities at Ocotillo Wells SVRA include off-highway vehicle (OHV) use, camping, education and interpretation, and special events. The California State Parks General Plan revision is needed to provide updated planning and management policies, goals, and guidelines for the entire SVRA including SVRA expansions since the 1982 General Plan was adopted. The BLM decisions include whether or not to amend the CDCA plan to change the land use designation of some BLM parcels in the SVRA. This may include making changes in OHV area designations in accordance with 43 CFR 8342. The CDCA Plan Amendment/EIS will consider a proposal to designate the Ocotillo Wells SVRA as a Special Recreation Management Area (SRMA). SRMA designations recognize public lands where recreation is the predominant land use. In response to a California State Parks Recreation and Public Purposes Act (R&PP Act) application, the BLM will also identify lands within the planning area that would be available for leasing or patent to the State of California through the R&PP Act or other land transfer or disposal processes. The purpose of the public scoping process is to determine relevant issues that will influence the scope of the environmental analysis, including alternatives, and guide the planning process. Preliminary issues for the CDCA Plan Amendment area have been identified by BLM and OHMVR as well as other Federal, State, and local agencies and stakeholders. Issues include wildlife and botany; cultural resources and paleontology; water resources; noise; land use; geology and soils; mineral resources including geothermal; socioeconomics; hazardous materials and solid waste; public health; visual resources; air quality; recreation; and traffic and transportation.

In addition, the BLM anticipates the following planning issues: (1) How best to address conflicts between recreational users, and (2) how to balance opportunities for the different kinds of recreation uses.

A preliminary list of the potential planning criteria that will be used to help guide and define the scope of the Plan Amendment includes:

1. Compliance with FLPMA, NEPA, and all other relevant Federal laws, executive orders, and BLM policies;

2. To the extent consistent with Federal law, the lands will be managed consistently with the California Department of Parks and Recreation OHMVR Division's Strategic Plan and the Off-Highway Motorized Vehicle Recreation Act, which include policies for managing both environmental resources and recreational activities in a sustainable manner;

3. The Plan Amendment/RAMP/General Plan will recognize valid existing rights;

4. Public involvement and participation will be an integral part of the planning process; and

5. Where existing planning decisions are still valid, those decisions may remain unchanged and be incorporated into the new Plan Amendment/RAMP/General Plan.

You may submit comments on issues and planning criteria in writing to the BLM at any public scoping meeting, or using one of the methods listed in the ADDRESSES section above. To be most helpful, you should submit comments by the close of the 30-day scoping period or within 15 days after the last public meeting, whichever is later.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources. The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the EIS as a cooperating agency.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

The BLM will evaluate identified issues to be addressed, and will place them into one of three categories:

1. Issues to be resolved in the CDCA Plan Amendment;

2. Issues to be resolved through policy or administrative action; or

3. Issues beyond the scope of this CDCA Plan Amendment.

The BLM will provide an explanation in the Scoping Report or the EIS/EIR as to why an issue was placed in category two or three. The public is also encouraged to help identify any management questions and concerns that should be addressed by the project. The BLM will work collaboratively with interested parties to identify the management decisions that are best suited to local, regional, and national needs and concerns. The BLM will use an interdisciplinary approach to develop the CDCA Plan Amendment in order to consider the variety of resource issues and concerns identified. Specialists with expertise in the following disciplines will be involved in the planning process: Planning, minerals and geology, outdoor recreation, archaeology, paleontology, wildlife, botany, lands and realty, hydrology, soils, sociology and economics.

Authority: 40 CFR 1501.7 and 43 CFR 1610.2

Thomas Pogacnik,
Deputy State Director.

[FR Doc. 2015-02551 Filed 2-6-15; 8:45 am]

BILLING CODE 4310-40-P